DEPARTMENT OF HOMELAND SECURITY

Coast Guard

33 CFR Part 151, 155 and 160

[Docket No. USCG-2008-1070]

RIN 1625-AB27

Nontank Vessel Response Plans and Other Response Plan Requirements

AGENCY: Coast Guard, DHS.

ACTION: Rule; information collection approval.

SUMMARY: On September 30, 2013, the Coast Guard amended regulations on response plans for nontank vessels. The amendment triggered information collection requirements affecting an existing OMB-approved information collection requirement on vessel and facility response plans. This notice announces that the collection of information has been approved by the Office of Management and Budget (OMB) and can now be enforced. The OMB control number is 1625-0066.

DATES: The collection of information requirement under 33 CFR 155.5023, 155.5025, and 155.5055 through 155.5075 can be enforced beginning November 8, 2013.

FOR FURTHER INFORMATION CONTACT: If you have questions about this document, contact Lieutenant Commander John Peterson, Coast Guard, Office of Commercial Vessel Compliance, Vessel Response Plan Review Team; telephone 202-372-1226, email vrp@uscg.mil. If you have questions about viewing the docket (USCG-2008-1070), call Ms. Barbara Hairston, Program Manager, Docket Operations, telephone 202-366-9826.

SUPPLEMENTARY INFORMATION: On September 30, 2013, the Coast Guard published the Nontank Vessel Response Plans and Other Response Plan Requirements final rule, implementing the statutory requirement for an owner or operator of a self-propelled, nontank vessel of 400 gross tons or greater, which operates on the navigable waters of the United States, to prepare and submit an oil spill response plan to the Coast Guard (78 FR 60100). Among other things, this rule applied vessel response plan requirements to nontank vessels. Under those requirements, a nontank vessel owner or operator needs to prepare and submit to the Coast Guard a nontank vessel response plan in accordance with 33 CFR part 155, subpart J. The content of the response plan includes the requirement to plan for responding to a worst-case discharge and a substantial threat of such a discharge. Additionally, submissions of international Shipboard Oil Pollution Emergency Plans (SOPEPs) for certain U.S.-flag nontank and tank vessels requires alignment with updated SOPEP rules. With the exception of this collection of information, the rule became effective on October 30, 2013.

Under the Paperwork Reduction Act of 1995 (44 U.S.C. 3501-3520), an agency may not conduct or sponsor a collection of information until the collection is approved by OMB. Accordingly, the preamble to the final rule stated that the Coast Guard would not enforce the collection of information requirements occurring under 33 CFR 155.5023, 155.5025, and 155.5055 through 155.5075 until the collection of information request was approved by OMB, and also stated that the Coast Guard would publish a notice in the Federal Register announcing that OMB approved and assigned a control number for the requirement.

The Coast Guard submitted the information collection request to OMB for approval in accordance with the Paperwork Reduction Act of 1995. On September 3, 2013, OMB approved the collection of information and assigned the collection OMB Control Number 1625-0066 entitled “Vessel and Facility Response Plans (Domestic and Int'l), and Additional Response Requirements for Prince William Sound, Alaska”. The approval for this collection of information expires on September 30, 2016. A copy of the OMB notice of action is available in our online docket (USCG-2008-1070) at http://www.regulations.gov.

Dated: November 1, 2013.
J.G. Lantz,
Director of Commercial Regulations and Standards, U.S. Coast Guard.

[FR Doc. 2013-26813 Filed 11-7-13; 8:45 am]

BILLING CODE 9110-04-P